DEPARTMENT OF ENERGY

Federal Energy Regulatory Commission

[Docket No. EL02-32-000]

Nevada Power Company Complainant, v. Reliant Energy Services, Inc., Respondent.; Notice of Complaint

December 6, 2001.

Take notice that on December 5, 2001, Nevada Power Company (NPC) filed a complaint requesting that the Federal Energy Regulatory Commission (Commission) mitigate unjust and unreasonable prices in sales contracts between NPC and Reliant Energy Services, Inc. (Reliant) entered into in the first half of 2001 for delivery after January 1, 2002. NPC requests that the Commission set a refund effective date of 60 days from the date of filing of their complaint.

Copies of NPC's filing were served on Reliant and the Public Utilities Commission of Nevada. NPC has requested privileged treatment of certain information in the complaint, and has filed privileged and public copies of the complaint, a request for privileged treatment, and a protective agreement.

Any person desiring to be heard or to protest this filing should file a motion to intervene or protest with the Federal Energy Regulatory Commission, 888 First Street, NE, Washington, DC 20426, in accordance with Rules 211 and 214 of the Commission's Rules of Practice and Procedure (18 CFR 385.211 and 385.214). All such motions or protests must be filed on or before December 26, 2001. Protests will be considered by the Commission in determining the appropriate action to be taken, but will not serve to make protestants parties to the proceeding. Any person wishing to become a party must file a motion to intervene. Answers to the complaint shall also be due on or before December 26, 2001. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-30704 Filed 12-11-01; 8:45 am]

BILLING CODE 6717-01-P